DEPARTMENT OF JUSTICE

Antitrust Division

Notice Pursuant to the National Cooperative Research and Production Act of 1993—Cooperative Research Group on In-Situ Measurement of H2s To Validate Thermodynamic Calculations (“Seed Project”)

Notice is hereby given that, on April 3, 2023 pursuant to Section 6(a) of the National Cooperative Research and Production Act of 1993, 15 U.S.C. 4301 et seq. (“the Act”), Cooperative Research Group on In-situ Measurement of H2S To Validate Thermodynamic Calculations (“Seed Project”) has filed written notifications simultaneously with the Attorney General and the Federal Trade Commission disclosing (1) the identities of the parties to the venture and (2) the nature and objectives of the venture. The notifications were filed for the purpose of invoking the Act's provisions limiting the recovery of antitrust plaintiffs to actual damages under specified circumstances. Specifically, ExxonMobil Technology and Engineering Company (EMTEC), Spring, TX, has been added as a party to this venture.

No other changes have been made in either the membership or planned activity of the group research project. Membership in this group research project remains open, and Seed Project intends to file additional written notifications disclosing all changes in membership.

On December 9, 2022, Seed Project filed its original notification pursuant to Section 6(a) of the Act. The Department of Justice published a notice in the Federal Register pursuant to Section 6(b) of the Act on January 24, 2023, (88 FR 4210).

Suzanne Morris,
Deputy Director, Civil Enforcement Operations, Antitrust Division.

[FR Doc. 2023-12531 Filed 6-12-23; 8:45 am]

BILLING CODE 4410-11-P